DEPARTMENT OF DEFENSE

Office of the Secretary

[Transmittal No. 23-84]

Arms Sales Notification

AGENCY: Defense Security Cooperation Agency, Department of Defense (DoD).

ACTION: Arms sales notice.

SUMMARY: The DoD is publishing the unclassified text of an arms sales notification.

FOR FURTHER INFORMATION CONTACT: Pamela Young at (703) 953-6092, pamela.a.young14.civ@mail.mil, or dsca.ncr.rsrcmgmt.list.cns-mbx@mail.mil.

SUPPLEMENTARY INFORMATION: This 36(b)(1) arms sales notification is published to fulfill the requirements of section 155 of Public Law 104-164 dated July 21, 1996. The following is a copy of a letter to the Speaker of the House of Representatives with attached Transmittal 23-84 and Policy Justification.

Dated: November 18, 2024.
Stephanie J. Bost,
Alternate OSD Federal Register Liaison Officer, Department of Defense.

BILLING CODE 6001-FR-P

BILLING CODE 6001-FR-C

Transmittal No. 23-84

Notice of Proposed Issuance of Letter of Offer Pursuant to Section 36(b)(1) of the Arms Export Control Act, as amended

(i) Prospective Purchaser: Government of Australia

(ii) Total Estimated Value:

Major Defense Equipment * | $0
Other | $2.0 billion
TOTAL | $2.0 billion

(iii) Description and Quantity or Quantities of Articles or Services under Consideration for Purchase: The Government of Australia has requested to buy articles and services in support of the Trilateral AUKUS Pillar I program.

Major Defense Equipment (MDE):

None

Non-MDE:

Included are training devices, personnel training, planning, and Non-Recurring Engineering (NRE) services; support equipment; special tools; training software and courseware; design; supply chain and industrial base support; facilities and construction support; publications and technical documentation; personnel training and training equipment; (United States (U.S.) Government and contractor engineering, technical, and logistics support services; test and trials support; studies and surveys; other related elements of engineering and repair services for associated equipment and program support; and other related elements of logistic and program support. U.S. training of private Australian industry personnel will occur only after explicitly authorized by the U.S. Department of State under U.S. law.

(iv) Military Department: Navy (AT-P-BTQ)

(v) Prior Related Cases, if any: AT-P-FBG

(vi) Sales Commission, Fee, etc., Paid, Offered, or Agreed to be Paid: None known

(vii) Sensitivity of Technology Contained in the Defense Article or Defense Services Proposed to be Sold: None

(viii) Date Report Delivered to Congress: December 1, 2023

* As defined in Section 47(6) of the Arms Export Control Act.

POLICY JUSTIFICATION

Australia—AUKUS Training and Training Devices

The Government of Australia has requested to buy articles and services in support of the Trilateral AUKUS Pillar I program. Included are training devices, personnel training, planning, and Non-Recurring Engineering (NRE) services; support equipment; special tools; training software/and courseware; design; supply chain and industrial base support; facilities and construction support; publications and technical documentation; personnel training and training equipment; U.S. Government and contractor engineering, technical, and logistics support services; test and trials support; studies and surveys; other related elements of engineering, and repair services for associated equipment and program support; and other related elements of logistic and program support. U.S. training of private Australian industry personnel will occur only after explicitly authorized by the U.S. Department of State under U.S. law. The estimated total program cost is $2.0 billion.

This proposed sale will support the foreign policy and national security objectives of the U.S. Australia is one of our most important allies in the Western Pacific. The strategic location of this political and economic power contributes significantly to ensuring peace and economic stability in the region. It is vital to the U.S. national interest to assist our ally in developing and maintaining a strong and ready self-defense capability.

The proposed sale will improve Australia's capability to meet current and future threats byproviding an effective combatant deterrent capability to protect maritime interests and infrastructure in support of its strategic mission. The acquisition will lay the groundwork for the Australia/United Kingdom/U.S. (AUKUS) trilateral agreement. Australia will have no difficulty absorbing this equipment and services into its armed forces.

The proposed sale of this equipment and support will not alter the basic military balance in the region.

The principal contractors will be Huntington Ingalls Industries, Newport News, VA; General Dynamics Electric Boat, Groton, CT; and Systems Planning Analysis, Alexandria, VA. There are no known offset agreements in connection with this potential sale.

Implementation of this proposed sale requires the assignment of approximately seventy (70) additional U.S. Government and contractor representatives to Australia for a duration of approximately three (3) years to support in-person training, equipment familiarization, and on-site engineering and maintenance of simulation and training devices.

There will be no adverse impact on U.S. defense readiness as a result of this proposed sale.

[FR Doc. 2024-27297 Filed 11-20-24; 8:45 am]

BILLING CODE 6001-FR-P